DEPARTMENT OF ENERGY

Federal Energy Regulatory Commission

[Docket No. EL01-51-001, et al.]

The Detroit Edison Company, et al. Electric Rate and Corporate Regulation Filings

March 29, 2001.

Take notice that the following filings have been made with the Commission:

1. The Detroit Edison Company

[Docket No. EL01-51-001]

Take notice that on March 23, 2001, The Detroit Edison Company (Detroit Edison) tendered for filing a Startup Testing and Parallel Operation Interconnection Agreement with Dearborn Industrial Generation, L.L.C. (the Startup Agreement). Detroit Edison requests the Commission to disclaim jurisdiction over the Startup Agreement. In the event the Commission determines the Startup Agreement to be subject to its jurisdiction, Detroit Edison requests that the Commission accept it for filing effective as of March 24, 2001.

Comment date: April 13, 2001, in accordance with Standard Paragraph E at the end of this notice.

2. Southern Company Services, Inc.

[Docket No. ER01-1052-001]

Take notice that on March 26, 2001, Southern Company Services, Inc. (SCS), by and on behalf of Alabama Power Company, Georgia Power Company, Mississippi Power Company, Gulf Power Company and Savannah Electric and Power Company, tendered for filing original tariff sheets compliant with the formatting requirements of Commission Order No. 614, as needed to implement revised accounting procedures accepted on a qualified basis in the above-stated docket.

Comment date: April 16, 2001, in accordance with Standard Paragraph E at the end of this notice.

3. Duke Energy Power Marketing, LLC

[Docket No. ER01-1129-001]

Take notice that on March 26, 2001, Duke Energy Power Marketing, LLC (DEPM), tendered for filing a revision to its proposed FERC Electric Tariff, Original Volume No. 1 (Tariff), clarifying that all market information shared between DEPM and any public utility with a franchised service territory that is an affiliate of DEPM will be disclosed simultaneously to the public. No other changes were made to the Tariff or to DEPM's Application for Order Accepting Rates for Filing, Determining Rates to be Just and Reasonable, and Granting Certain Waivers and Pre-Approvals, filed on January 31, 2001.

Comment date: April 16, 2001, in accordance with Standard Paragraph E at the end of this notice.

4. Niagara Mohawk Corporation

[Docket Nos. ER01-1168-001, ER01-1184-001, ER01-1192-001, ER01-1201-001, ER01-1241-001, and ER01-1242-001]

Take notice that on March 22, 2001, Niagara Mohawk Power Corporation (NMPC) tendered for filing Rate Schedule numbers for the various Interconnection Agreements (IA) filed with the Commission in the above referenced dockets.

Comment date: April 12, 2001, in accordance with Standard Paragraph E at the end of this notice.

5. Duquesne Light Company

[Docket No. ER01-1298-001]

Take notice that on March 26, 2001, Duquesne Light Company (DLC) tendered for filing an amendment to Service Agreement dated February 21, 2001 with Dynegy Power Marketing, Inc. under DLC's Open Access Transmission Tariff (Tariff). This amendment is intended to conform with the Commission's rate designation requirements under Order No. 614. The Service Agreement adds Dynegy Power Marketing, Inc. as a customer under the Tariff. DLC requests an effective date of February 21, 2001 for the Service Agreement.

Comment date: April 16, 2001, in accordance with Standard Paragraph E at the end of this notice.

6. Niagara Mohawk Corporation

[Docket No. ER01-1521-001]

Take notice that on March 23, 2001, PJM Interconnection, L.L.C. (PJM), tendered for filing a supplement to its March 13, 2001 filing submitting a Notice of Termination of the Umbrella Service Agreement for Network Integration Service between PJM and Utilimax.com, Inc. (PJM Interconnection, L.L.C. Third Revised Rate Schedule FERC No. 1 Service Agreement No. 468).

Copies of this filing were served upon Utilimax.com, Inc., affected Electric Distribution Companies, and all state utility regulatory commissions in the PJM control area.

Comment date: April 13, 2001, in accordance with Standard Paragraph E at the end of this notice.

7. Public Service Company of New Mexico

[Docket No. ER96-1551-006]

Take notice that on March 26, 2001, Public Service Company of New Mexico (PNM) tendered for filing an updated market power study in compliance with the Commission's January 24, 2001 order in Docket Nos. ER01-592-000 and ER01-615-000, Western Resources, Inc. and Public Service Company of New Mexico, 94 FERC ¶61,050 (2001).

Comment date: April 16, 2001, in accordance with Standard Paragraph E at the end of this notice.

8. Electricity Capital, LLC; El Cap I, LLC; El Cap II, LLC;

[Docket Nos. ER01-1612-000, ER01-1613-000, and ER01-1614-000.]

Take notice that on March 26, 2001, Electricity Capital, LLC, El Cap I, LLC and El Cap II, LLC (Applicants) tendered for filing a Rate Schedule FERC No. 1 for each Applicant; the granting of certain blanket approvals, including the authority to sell electricity at market-based rates; and the waiver of certain Commission regulations.

Each Applicant intends to engage in wholesale electric power and energy purchases and sales as a marketer. Each Applicant is not in the business of generating or transmitting electric power, except as described in its petition. Each Applicant and its affiliates intend to install, operate and maintain multiple small scale power generation units at one or more locations.

Comment date: April 16, 2001, in accordance with Standard Paragraph E at the end of this notice.

9. Southern Power Company

[Docket No. ER01-1615-000]

Take notice that on March 26, 2001, Southern Power Company (Southern Power), tendered for filing a market-based Power Purchase Agreement with Alabama Power Company. Southern Power requests an effective date of June 1, 2001 for this agreement.

Comment date: April 16, 2001, in accordance with Standard Paragraph E at the end of this notice.

10. Deseret Generation & Transmission Co-operative, Inc.

[Docket No. ER01-1620-000]

Take notice that on March 26, 2001, Deseret Generation & Transmission Co-operative, Inc., tendered for filing a notice of cancellation of Rate Schedule No. 8. Deseret requests an effective date of March 26, 2001.

Comment date: April 16, 2001, in accordance with Standard Paragraph E at the end of this notice.

11. Cinergy Services, Inc.

[Docket No. ER01-1624-000]

Take notice that on March 26, 2001, Cinergy Services, Inc. (Cinergy) tendered for filing an executed Service Agreement with Carolina Power & Light Company under COC Market-Based Power Sales Tariff-MB replacing the service agreement under Cinergy FERC Electric Power Sales Tariff, Original Volume No. 4.

Cinergy requests an effective date of April 23, 1996.

Comment date: April 16, 2001, in accordance with Standard Paragraph E at the end of this notice.

12. Cinergy Services, Inc.

[Docket No. ER01-1625-000]

Take notice that on March 26, 2001, Cinergy Services, Inc. (Cinergy) and TXU Energy Trading Company, tendered for filing a cancellation of Service Agreement No. 217, under Cinergy Operating Companies, Cost-Based Power Sales Tariff—CB, FERC Electric Tariff Original Volume No. 6.

Cinergy requests an effective date of November 20, 2000.

Comment date: April 16, 2001, in accordance with Standard Paragraph E at the end of this notice.

13. Southwestern Electric Power Company

[Docket No. ER01-1603-000]

Take notice that on March 26, 2001, Southwestern Electric Power Company (SWEPCO) submitted for filing actuarial reports in support of the amounts to be collected in SWEPCO's 2000 actual and 2001 projected formula rates for post-employment benefits other than pensions as directed by the Statement of Financial Accounting Standard No. 106 (SFAS 106), issued by the Financial Accounting Standards Board, and the collection in such formula rates of other post-employment benefits as directed by SFAS 112.

SWEPCO seeks an effective date of January 1, 2000 and, accordingly, requests waiver of the Commission's notice requirements.

SWEPCO has served copies of the transmittal letter on all of its formula rate customers, the Arkansas Public Service Commission, the Louisiana Public Service Commission and the Public Utility Commission of Texas.

Comment date: April 16, 2001, in accordance with Standard Paragraph E at the end of this notice.

14. California Independent System Operator

[Docket No. ER01-1608-000]

Take notice that on March 26, 2001, the California Independent System Operator Corporation, tendered for filing a Meter Service Agreement for ISO Metered Entities between the ISO and La Paloma Generating Company, LLC for acceptance by the Commission.

The ISO states that this filing has been served on La Paloma Generating Company, LLC and the California Public Utilities Commission.

The ISO is requesting waiver of the 60-day notice requirement to allow the Meter Service Agreement to be made effective March 21, 2001.

Comment date: April 16, 2001, in accordance with Standard Paragraph E at the end of this notice.

15. California Independent System Operator Corporation

[Docket No. ER01-1609-000]

Take notice that on March 26, 2001, the California Independent System Operator Corporation, tendered for filing a Meter Service Agreement for ISO Metered Entities between the ISO and Alliance Colton, LLC for acceptance by the Commission.

The ISO states that this filing has been served on Alliance Colton, LLC and the California Public Utilities Commission.

The ISO is requesting waiver of the 60-day notice requirement to allow the Meter Service Agreement for ISO Metered Entities to be made effective March 21, 2001.

Comment date: April 16, 2001, in accordance with Standard Paragraph E at the end of this notice.

16. California Independent System Operator Corporation

[Docket No. ER01-1610-000]

Take notice that on March 26, 2001, the California Independent System Operator Corporation, tendered for filing a Participating Generator Agreement between the ISO and Alliance Colton, LLC for acceptance by the Commission.

The ISO states that this filing has been served on Alliance Colton, LLC and the California Public Utilities Commission.

The ISO is requesting that the Participating Generator Agreement to be made effective March 21, 2001.

Comment date: April 16, 2001, in accordance with Standard Paragraph E at the end of this notice.

17. California Independent System Operator Corporation

[Docket No. ER01-1611-000]

Take notice that March 26, 2001, the California Independent System Operator Corporation, tendered for filing a Participating Generator Agreement between the ISO and La Paloma Generating Company, LLC for acceptance by the Commission.

The ISO states that this filing has been served on La Paloma Generating Company, LLC and the California Public Utilities Commission.

The ISO is requesting that the Participating Generator Agreement to be made effective March 21, 2001.

Comment date: April 16, 2001, in accordance with Standard Paragraph E at the end of this notice.

18. Duke Energy Corporation

[Docket No. ER01-1616-000]

Take notice that on March 26, 2001, Duke Energy Corporation (Duke) filed an unexecuted Interconnection and Operation Agreement with Carolina Power & Light Company in the above-captioned docket.

Comment date: April 16, 2001, in accordance with Standard Paragraph E at the end of this notice.

19. American Transmission Company LLC

[Docket No. ER01-1617-000]

Take notice that on March 26, 2001, American Transmission Company LLC (ATCLLC) tendered for filing an executed Network Operating Agreement (NOA) and Network Integration Transmission Service Agreement (NITSA) for Central Wisconsin Electric Cooperative (CWEC) that were first submitted as unexecuted agreements on January 30, 2001 in Docket No. ER01-1096-000.

ATCLLC requests an effective date of January 1, 2001 for the NOA and NITSA.

Comment date: April 16, 2001, in accordance with Standard Paragraph E at the end of this notice.

20. PJM Interconnection, L.L.C.

[Docket No. ER01-1621-000]

Take notice that on March 26, 2001, PJM Interconnection, L.L.C. tendered for filing revised tariff sheets to Schedules 7 and 8 and Attachment H-11 of the PJM Open Access Transmission Tariff (PJM Tariff), reflecting new PJM Border rates for firm and non-firm point-to-point service and Non-Zone Network Load rates for network integration transmission service.

PJM requests an effective date of June 1, 2001.

Copies of this filing were served upon all PJM Members and the state electric regulatory commissions in the PJM Control Area.

Comment date: April 16, 2001, in accordance with Standard Paragraph E at the end of this notice.

21. American Transmission Company LLC

[Docket No. ER01-1622-000]

Take notice that on March 26, 2001, American Transmission Company LLC (ATCLLC) tendered for filing Short-Term Non-Firm Service Agreements with Southwestern Public Service Company and the Public Service Company of Colorado.

ATCLLC requests an effective date of March 16, 2001.

Comment date: April 16, 2001, in accordance with Standard Paragraph E at the end of this notice.

22. Avista Corp.

[Docket No. ER01-1637-000 ER01-790-001]

Take notice that on March 26, 2001, Avista Corp. (AVA) tendered for filing an amendment to its Transmission Service Agreement by attaching the Index of Point to Point Transmission Service Customers.

AVA requests the Service Agreement be given a respective effective date of December 19, 2000. AVA also requests the Commission to cancel all of the materials filed under FERC Docket No. ER01-790-000 with the effective date of March 14, 2001.

Comment date: April 16, 2001, in accordance with Standard Paragraph E at the end of this notice.

23. Allegheny Energy Supply Conemaugh, LLC

[Docket No. EG01-84-000]

Take notice that on March 27, 2001, Allegheny Energy Supply Conemaugh, LLC filed a supplement to its Application for Determination of Exempt Wholesale Generator Status pursuant to Section 32(a)(1) of the Public Utility Holding Company Act of 1935.

Comment date: April 19, 2001, in accordance with Standard Paragraph E at the end of this notice. The Commission will limit its consideration of comments to those that concern the accuracy of the amended application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8250 Filed 4-3-01; 8:45 am]

BILLING CODE 6717-01-P